CONSUMER PRODUCT SAFETY COMMISSION

Pilot Programs Inviting Public Comment on Voluntary Standards Activities and Staff and Contractor Research Reports

AGENCY: Consumer Product Safety Commission.

ACTION: Notice of pilot programs and request for comments.

SUMMARY: The Consumer Product Safety Commission (CPSC or Commission) is launching two pilot programs that will open CPSC staff activities for public review and comment. The first pilot program will provide information on CPSC staff participation with respect to a cross-section of voluntary standards, including advance notice of proposed staff positions on issues to be considered by voluntary standards organizations. The second pilot program will provide public access to a set of research reports and an opportunity to submit comments to be considered by the staff before finalization.

The primary goals of both programs are to make the CPSC staff's activities more transparent and to obtain the benefit of public review and input before finalizing CPSC staff positions. The Commission believes that timely public input will strengthen the CPSC's efforts in these important areas. Comments received through these programs will be reviewed by staff to ensure each research report and staff recommendation on voluntary standards activities is based on the best scientific, economic, and technological information available. The Commission is hopeful that the two pilot programs will enhance the quality of the conclusions and recommendations drawn by CPSC staff without limiting its ability to make timely contributions to the ever-evolving voluntary standards development process or to complete its research work in a timely fashion.

The Commission will evaluate the two pilot programs after a period of six months. Should the pilot programs be deemed successful, the Commission will consider expanding them to include a broader cross-section of CPSC staff voluntary standards activities and research reports developed by CPSC staff and/or contractors. The two pilot programs are further described below.

DATES: The pilot programs described in this notice commence on publication of this notice and run through April 18, 2005.

Comments

Comments on a proposed staff recommendation concerning a voluntary standards activity selected for the pilot may be submitted through the CPSC Web site at http://www.cpsc.gov/volstd/standards.html and must be received not later than five (5) working days after the recommendation is posted on the Web site.

Comments on any research report that is the subject of the Research Reports Technical Review Pilot Program may be submitted via e-mail to the Commission's Office of the Secretary at cpsc-os@cpsc.gov. Commenters who prefer may submit comments to the Office of the Secretary at the address shown below. Comments on a research report must be received not later than forty-five (45) days after the report is posted on CPSC's Web site.

General comments on whether to continue these programs beyond the pilot period and any suggestions for improving the programs may be submitted to the address below and must be received not later than May 18, 2005.

ADDRESSES: General comments on the pilot programs should be mailed to the Office of the Secretary, Consumer Product Safety Commission, Washington, DC 20207-0001; telephone (301) 504-7923, or delivered to the Office of the Secretary, Room 502, 4330 East-West Highway, Bethesda, Maryland 20814-4423. Comments should be captioned “Comments on Pilot Programs for Public Review and Comment on Voluntary Standards Activities and Draft Research Reports.” Comments may also be filed by telefacsimile to (301) 504-0127, or by e-mail to cpsc-os@cpsc.gov.

FOR FURTHER INFORMATION CONTACT: For further information on the specific voluntary standards activities and draft technical reports that are the subject of the pilot programs contact:

Hugh McLaurin, Director, Directorate for Engineering Sciences, U.S. Consumer Product Safety Commission, Washington, DC 20207, (301) 504-7531, e-mail: hmclaurin@cpsc.gov.

For general information on the pilot programs, contact: Lowell Martin, Assistant General Counsel for Regulatory Affairs, U.S. Consumer Product Safety Commission, Washington, DC 20207, (301) 504-7628, e-mail: lmartin@cpsc.gov.

SUPPLEMENTARY INFORMATION:

A. CPSC Staff Voluntary Standards Activities Information and Opportunity for Comment

1. Background

The Commission is actively engaged in the voluntary standards development process for a wide range of consumer products. The staff works with several different standards development organizations. All provide an open, deliberative process featuring a balance of interests and due process protections.

CPSC staff members participate, as non-voting members, in a number of steps in the voluntary standards development process. CPSC staff often provide expert advice, technical assistance, injury and death data and analysis, as well as supporting research. In addition, CPSC staff will commonly submit recommendations concerning new consumer product safety standards or modification of existing standards. These recommendations are often based on previous research conducted by the agency or a review of injury and death data associated with the product category at issue. From 1990 through 2002, CPSC staff has participated with other interested stakeholders in developing or revising 217 voluntary standards.

2. Pilot Program

CPSC is initiating a pilot program to begin posting notice of CPSC staff activities and recommendations concerning voluntary standards development on its web site. At present, Commission staff is involved in over 60 consumer product voluntary standards development activities. For purposes of the pilot, CPSC has selected eight different voluntary standards activities to evaluate this system of sharing CPSC staff information with the public for review and comment.

The voluntary standards activities selected for the pilot are: (1) Smoke alarms; (2) arc fault circuit interrupters; (3) ground fault circuit interrupters; (4) pool and spa safety vacuum release systems; (5) bunk beds; (6) gasoline containers for child resistance; (7) portable generators (within the engine driven tools project); and (8) garage door and gate operators. For these voluntary standards activities, we will make available on the CPSC Web site a wide range of technical information, including as appropriate: relevant CPSC safety alerts, press releases involving the product category, pertinent fact sheets, relevant incident and death data, letters with staff recommendations, correspondence, meeting notices, research reports, memoranda, and contractor reports. We will also provide appropriate contact information, both for CPSC staff and the voluntary standards organizations.

The information on these eight activities can be accessed by visiting the CPSC Web site at http://www.cpsc.gov/volstd/standards.html. In addition, the site will allow any member of the public to arrange to receive automatic electronic mail updates on any new CPSC staff activity and/or recommendations regarding voluntary standards activities.

This new area of the CPSC Web site will also provide the public with the opportunity to review and comment on newly developed staff materials/recommendations before they are submitted for consideration by the voluntary standards organization. During the pilot, the Commission staff will post proposed staff recommendations for the selected voluntary standards activities in the voluntary standards area of the CPSC Web site for a period of five (5) working days. Interested parties will be able to forward comments to CPSC staff though this web area. Following the five day public comment period, staff will provide due consideration to inputs received, inform the Assistant Executive Director for Hazard Identification and Reduction of any significant issues raised, and finalize the staff recommendation for the Director's review. Although public comments may affect the staff's proposed recommendations, the staff will not respond directly to comments.

The Commission would prefer to allow a longer period than five days for public input, but we lack control over the deadlines set by voluntary standards organizations. We are concerned that a more generous review period may leave the staff too little time for formulating a position and taking account of public comments. The Commission invites comments on this and other aspects of the pilot programs.

The pilot project will alert the public to eight current voluntary standards activities within the CPSC and enable them to access detailed information and analysis regarding the proposed approach and staff recommendations for new or revised standards. We believe it is in the public interest to ensure all interested parties have the opportunity to review this information and make comments to staff for consideration prior to finalizing a recommendation to a voluntary standards organization. We have developed this pilot project to evaluate that hypothesis and to develop a better understanding of the practical implications of this new, more open process.

It is important to note that this pilot addresses only information pertaining directly to CPSC staff involvement in voluntary standards activities and is not intended to create a complete repository for all voluntary standards activities information. Each voluntary standards organization is responsible for maintaining such comprehensive information. Accordingly, for each activity in the pilot program, contact information for the appropriate voluntary standards organization and/or staff member will be included.

B. Research Reports Technical Review Pilot Program

1. Background

The CPSC conducts many research and study projects in furtherance of its activities to improve product safety and eliminate potential hazards associated with consumer products. The findings from such projects may be used by staff to develop and refine positions on voluntary and mandatory product safety standards. The staff also conducts research on new and emerging technologies to evaluate their potential for enhancing consumer product safety and reducing hazards. Each research project typically concludes with development of a final report outlining the hazard scenario or product safety issue that was researched, the scope of the project, methodology utilized, findings, and recommendations when appropriate. On occasion, the staff also engages outside contractors to perform research. In such cases, the final contractor report is usually transmitted to the Commission and the public with a cover memorandum from the staff addressing any issues presented by the report and/or making recommendations as appropriate.

2. Pilot Program

The Research Reports Technical Review pilot program will give interested persons the opportunity to review and provide timely technical comments on CPSC staff and CPSC-sponsored research reports prior to their finalization. The reports will be located on the CPSC Web site at http://www.cpsc.gov/volstd/research/research.html. Each selected research report can be viewed by clicking on the link for that report. Interested parties can forward technical comments to CPSC staff via e-mail to cpsc-os@cpsc.gov or, if access to e-mail is unavailable, by correspondence to the Office of the Secretary at the address shown above.

We have selected the following draft staff reports to initiate this pilot: (1) Detection of Abnormal Operating Conditions in Electric Clothes Dryers; (2) A Review of the Sound Effectiveness of Residential Smoke Alarms; (3) An Evaluation of Finger Injuries Associated with Home Document (Paper) Shredder Machines; and (4) Fire Indicators Project Report. In addition, we are including one final contractor report, namely, Final Report on Development and Manufacturing Assessment of the Concentric-Ring Smooth-Top Range Sensor. These research reports will be located on the Research Reports Technical Review Web page and will be available for comment for forty-five (45) days from the date of this notice, that is until December 2, 2004. Other research reports may be posted to the Web site during the pilot, and in such cases the Commission will allow 45 days for public comment.

CPSC staff will assess technical comments submitted through the Research Reports Technical Review Web site and will take account of such comments when finalizing staff reports or in the final staff assessment to accompany a contractor report. Staff will provide due consideration to inputs received, inform the Assistant Executive Director for Hazard Identification and Reduction of any significant issues that arise, and finalize the report in question for review by the Executive Director and transmittal to the Commission. Although the staff will take account of all comments received, the staff will not respond directly to the commenter.

C. Conclusion

The Commission has launched these pilot programs in an effort to increase the transparency and openness of CPSC staff voluntary standards activities and CPSC staff and CPSC-sponsored research. The Commission is hopeful that the pilots will enhance the overall quality of the conclusions and recommendations drawn by CPSC staff with regard to voluntary standards development and our product safety research. It is important to note that while comments on specific positions and reports will be reviewed and assessed by CPSC staff member(s) as appropriate, CPSC staff will not prepare formal responses. Rather, the staff will consider whether to modify its input to the voluntary standards organization or to revise a research report.

The pilots will commence upon publication of this notice in the Federal Register and will be completed by April 18, 2005.

The Commission also seeks comment on these pilot programs generally in order to inform its judgment about extending or modifying the programs. Such comments should be in writing and submitted to the Office of the Secretary at the address above no later than one (1) month after completion of the pilots, that is, not later than May 18, 2005.

Dated: October 12, 2004.
Todd A. Stevenson,
Secretary, Consumer Product Safety Commission.

[FR Doc. 04-23197 Filed 10-15-04; 8:45 am]

BILLING CODE 6355-01-P